DEPARTMENT OF HEALTH AND HUMAN SERVICES

Office of the Secretary

Statement of Organization, Functions and Delegations of Authority

Part A (Office of the Secretary), Chapter AE (Office of the Assistant Secretary for Planning and Evaluation (OASPE), of the Statement of Organization, Functions and Delegation of Authority for the Department of Health and Human Services (most recently amended at 63 FR 48 on March 12, 1998) is amended as follows:

I. Chapter AE, paragraph C. “The Office of Health Policy,” delete in its entirety and replace with the following:

C. The Office of Health Policy—The Office of Health Policy is responsible for policy development and coordination—including policy and long-range planning; policy, economic, program, and budget analyses; review of regulations and formulation of budget and legislation—and for the conduct and coordination of research, evaluation, and information dissemination on issues relating to health policy. In these matters, the office works closely with the Public Health Service components and the Health Care Financing Administration.

1. The Division of Health Financing Policy is responsible for functions related to the Department's health financing programs, primarily Medicare, SCHIP, and Medicaid and policies affecting health care financing and health care costs. Formulate and analyze alternative legislative and regulatory proposals: conduct short-term policy analyses and evaluations on the efficacy of existing and potential policies and programs in terms of cost, effectiveness and other variables; and synthesize technical analyses performed outside of the Government in a manner that is relevant to policy formulation.

2. The Division of Public Health Systems is responsible for functions related to public health programs and policies. Relevant topic areas include disease control; health promotion and disease prevention; health care resources development; health care and services delivery; alcohol, drug abuse and mental health services; as well as biomedical research and food and drug safety, to the extent these issues pertain to the application of public health practices. Conduct and prepare studies on the design and effectiveness of health promotion, disease prevention, and disease control activities undertaken by both the public and private sectors. Conduct policy research and evaluation studies characterizing the relationship between the medical services delivery system and population-based public health services, as well as examining the interaction of public health entities at all levels of government, to explore the structure, function, capacity, and practices of the public health system.

3. The Division of Health Delivery Systems is responsible for functions related to health services, health organizations and health delivery systems. Topics include consumer issues such as quality and consumer protections; private insurance; health care organization and financial issues. Analyze trends in the private health care sector; prepare and conduct studies on the interactions of the private and public health care sectors in terms of cost effectiveness, service levels and effects on consumers; analyze alternative legislative and regulatory proposals; prepare short-term policy analyses and evaluations of existing and potential policies and programs, particularly those that cut across the Department's program areas. The Division also coordinates work and plays a liaison role across the Department and with other Departments (including Treasury, Justice and Labor).

4. The Division of Health Policy Research and Planning is responsible for all functions related to the development of a comprehensive research, information, and analytical program to gain basic information in the areas of health services and financing focusing on health policy issues. Plan and implement health services and financing research to respond to OS analytic needs, including information sharing and coordination across Federal agencies and OPDIV's, and collaborations or partnerships with the health services research community. As part of this function the Division coordinates closely with other ASPE and OPDIV offices on health data and health information policy issues. The Division also works closely with the ASPE Division of Data Policy and OPDIV offices on the identification and coordination of cross-cutting health data information policy issues, and brings such issues to the HHS Data Council for consideration and resolution. The Division also directs, manages, and conducts a cross-cutting analyses, research, evaluation, and legislative and budget activities for health services and financing policy initiatives focusing on health policy issues.

II. Chapter AE, paragraph F. “The Office of Science Policy,” delete in its entirety and replace with the following:

F. The Office of Science Policy—The Office of Science Policy (OSP) is responsible for guiding and coordinating the development of science policy throughout the Department. As directed by the Secretary of the ASPE, OSP establishes and leads broadly representative, multi-office working groups to develop policy initiatives related to complex science and technology issues that cut across the missions of several entities within the Department. OSP generally leads these working groups in presentations to the Secretary, other senior DHHS staff, to members and/or staff of the Congress, and to others outside DHHS.

OSP is the OASPE lead on issues or initiatives that are heavily science-based, including public health issues that involve complex and/or rapidly evolving science and technology. OSP is responsible for guiding and coordinating the incorporation of science-policy considerations within regulatory proposals, legislative proposals, Congressional testimony, press releases, and other public documents describing major Departmental initiatives. OSP provides critique and advice regarding the science-policy content of such documents, which typically originate from DHHS Operating Divisions or other units within the Office of the Secretary. In selected instances, OSP initiates and directs the development of such documents.

OSP is responsible for creating and maintaining effective communication with scientific and technical communities outside the Department regarding science-policy issues. This includes liaison with the Office of Science and Technology Policy, Executive Office of the President. It also includes active participation in inter-agency science and technology activities (such as those sponsored by the National Science and Technology Council) and government/private-sector collaborations related to science policy (such as those sponsored by the National Academy of Sciences). These duties also include service as the Secretary's representative in meetings with leaders of research universities, scientific societies, professional associations, and industrial organizations involved in biomedical, behavorial, or social-science research or in the delivery of health and human services. In all of these areas, OSP staff coordinate their activities as appropriate with those of other components within OASPE; with other components and officials of the Office of the Secretary (including the Assistant Secretary for health in his/her role as the Secretary's senior advisor on public health and science); and with the Operating Divisions of the Department.

Dated: January 4, 2001.
John J. Callahan,
Assistant Secretary for Management and Budget.

[FR Doc. 01-787 Filed 1-10-01; 8:45 am]

BILLING CODE 4150-24-M